SECURITIES AND EXCHANGE COMMISSION

[Release No. 34-46071A; File No. SR-PCX-2002-27]

Self-Regulatory Organizations; Notice of Filing and Immediate Effectiveness of Proposed Rule Change and Amendment No. 1 Thereto by the Pacific Exchange, Inc. To Adopt a New Order Modifier Called “Timed Order” and To Adopt a New Interpretation Under PCXE Rules 1.1(r) and 7.37

June 21, 2002.

Correction

In FR Document No. 02-15575 for June 20, 2002, the date of July 12, 2002 on page 42092, column one, following the heading, should read June 12, 2002.

For the Commission, by the Division of Market Regulation, pursuant to delegated authority.¹
¹ 17 CFR 200.30-3(a)(12).
Margaret H. McFarland,
Deputy Secretary.

[FR Doc. 02-16350 Filed 6-27-02; 8:45 am]

BILLING CODE 8010-01-P